FEDERAL HOUSING FINANCE BOARD

[No. 2003-N-3]

Prices for Federal Home Loan Bank Services

AGENCY: Federal Housing Finance Board.

ACTION: Notice of prices for Federal Home Loan Bank services.

SUMMARY: The Federal Housing Finance Board (Finance Board) is publishing the prices charged by the Federal Home Loan Banks (Banks) for processing and settlement of items (negotiable order of withdrawal or NOW), demand deposit accounting (DDA), and other services offered to members and other eligible institutions.

EFFECTIVE DATE: February 11, 2003.

FOR FURTHER INFORMATION CONTACT: Scott L. Smith, Associate Director, Office of Supervision (202) 408-2991; or Edwin J. Avila, Financial Analyst, (202) 408-2871; Federal Housing Finance Board, 1777 F Street, NW., Washington, DC 20006.

SUPPLEMENTARY INFORMATION: Section 11(e) of the Federal Home Loan Bank Act (Bank Act) (12 U.S.C. 1431(e)) authorizes the Banks to: (1) Accept demand deposits from member institutions; (2) be drawees of payment instruments; (3) engage in collection and settlement of payment instruments drawn on or issued by members and other eligible institutions; and (4) have such incidental powers as are necessary to the exercise of such authority. Section 11(e)(2)(B) of the Bank Act (12 U.S.C. 1431(e)(2)(B)) requires the Banks to make charges for services authorized in that section, which charges are to be determined and regulated by the Finance Board.

Section 975.6(c) of the Finance Board's regulations (12 CFR 975.6(c)) provides for the annual publication in the Federal Register of all prices for Bank services. The following fee schedule is for the only Bank that offers item processing services to its members and other qualified financial institutions. Most of the remaining Banks provide other Correspondence Services, which may include securities safekeeping, disbursements, coin and currency, settlement, electronic funds transfer, etc.However, these Banks do not provide services related to processing of items drawn against or deposited into third party accounts held by their members or other qualified financial institutions.

District 1.—Federal Home Loan Bank of Boston (2003 NOW/DDA Services). (Services not provided.)

District 2.—Federal Home Loan Bank of New York (2003 NOW/DDA Services). (Does not provide item processing services for third party accounts.)

District 3.—Federal Home Loan Bank of Pittsburgh (2003 NOW/DDA Services). (Does not provide item processing services for third party accounts.)

District 4.—Federal Home Loan Bank of Atlanta (2003 NOW/DDA Services). (Does not provide item processing services for third party accounts.)

District 5.—Federal Home Loan Bank of Cincinnati (2003 NOW/DDA Services). (Does not provide item processing services for third party accounts.)

District 6.—Federal Home Loan Bank of Indianapolis (2003 NOW/DDA Services).

Fee Schedules Based on One Year Contract

Checking Account Processing

I. Check Services Transaction Charges

Turnaround (daily or cycled) | Monthly volume | Truncated: Per item | Truncated: Per item | Complete: Per item | Complete: Per item | Full service image*: Per item | Full service image*: Per statement | Limited service Image*: Per item | Limited service Image*: Per statement
0-5,000 | $.054 | $.0675 | $.0875 | $.06 | $.40 | $.02 | $.40
5-10,000 | .046 | .0625 | .0855 | .06 | .40 | .02 | .40
10-15,000 | .045 | .0585 | .0835 | .06 | .40 | .02 | .40
15-25,000 | .040 | .0515 | .0825 | .06 | .40 | .02 | .40
25-50,000 | .039 | .0475 | .0805 | .06 | .40 | .02 | .40
50-75,000 | .035 | .0445 | .0765 | .06 | .40 | .02 | .40
75-100,000 | .032 | .0415 | .0755 | .06 | .40 | .02 | .40
100-and up | .030 | .0385 | .0745 | .06 | .40 | .02 | .40

Monthly volume | Image archive limited service*: Per item | Image archive limited service*: Per item | CD image limited service: Per CD
0-5,000 | $.0125 | $.0075 | $10.00
5-10,000 | .0125 | .0075 | 10.00
10-15,000 | .0125 | .0075 | 10.00
15-25,000 | .0125 | .0075 | 10.00
25-50,000 | .0125 | .0075 | 10.00
50-75,000 | .0125 | .0075 | 10.00
75-100,000 | .0125 | .0075 | 10.00
100-and up | .0125 | .0075 | 10.00

II. Ancillary Service Fees

Service | Cost
Large Dollar Signature Verification | $0.750
Over-the-counters and Microfilm | 0.045
Return Items | 2.40
Photocopies** and Facsimiles | 2.50
Certified Checks | 1.00
Invalid Accounts | 0.65
Late Returns | 0.50
Invalid Returns | 0.50
No MICR/OTC | 0.50
Settlement Only | ¹ $100.00
+Journal Entries | 3.00
Encoding Errors | 2.75
Fine Sort Numeric Sequence | 0.02
High Dollar Return Notification | N/C
Debit Entries | N/C
Credit Entries | N/C
Standard Stmt. Stuffers (up to 2)*** | N/C
Statement Stuffing Savings (Non DDA Accounts) | 0.20
¹ per month.
Minimum processing fee of $40.00 per month will apply for total NOW services. Also included in the above fees—at no additional cost are Federal Reserve fees, incoming courier fees, software changes, disaster recovery, envelope discount and inventory.
*Image Monthly Maintenance Fee of $500.00 for 0-32% of accounts; $300.00 for 33-49% of accounts; and $200.00 for 50%+ will be assessed for Image Statements.
**Photocopy request of 50 or more are charged at an hourly rate of $15.00.
***Each additional (over 2) will be charged at .02 per statement.

Service | Cost
ACH Fees
Tape transmission | $8.50 per tape.
or originations | .045 per item.
NACHA, MPX | Actual Federal Reserve charges.
ACH entries clearing through our R&T number | .25 per item.
Settlement only | 65.00 per month.
ACH returns/NOC | 2.50 per item.

Collected balances will earn interest at CMS daily-posted rate.

Prices effective April 1, 1993.

Federal Home Loan Bank of Indianapolis

Deposit Services:
Pre-encoded Items
City | $0.045 per item.
RCPC | .055 per item.
Other Districts | .09 per item.
Unencoded | .15 per item.
Food Stamp | .14 per item.
Photocopies* | 2.50 per copy.
Adjustments on pre-encoded work | 2.75 per error.
EZ Clear | .14 per item.
Coupons | 8.25 per envelope.
Collections | 6.00 per item.
Cash Letter | 2.00 per cash letter.
Deposit Adjustments | .30 per adjustment.
Debit Entries | N/C.
Credit Entries | N/C.
Microfilming | N/C.
Mortgage Remittance (Basic Service) | .35.
Settlement only | 100.00 per month.
+Journal Entries | 3.00 each.
Courier** |
Indianapolis (city) | 8.25 per location, per day, per pickup.
Outside Indianapolis | Prices vary per location.
N/C—No Charge.

District 7.—Federal Home Loan Bank of Chicago (2003 NOW/DDA Services.) (Does not provide item processing services for third party accounts.)

District 8.—Federal Home Loan Bank of Des Moines (2003 NOW/DDA Services.) (Does not provide item processing services for third party accounts.)

District 9.—Federal Home Loan Bank of Dallas (2003 NOW/DDA Services.) (Does not provide item processing services for third party accounts.)

District 10.—Federal Home Loan Bank of Topeka (2003 NOW/DDA Services.) (Does not provide item processing services for third party accounts.)

District 11.—Federal Home Loan Bank of San Francisco (2003 NOW/DDA services.) (Does not provide item processing services for third party accounts.)

District 12.—Federal Home Loan Bank of Seattle (2003 NOW/DDA Services.) (Does not provide item processing services for third party accounts.)

Dated: February 6, 2003.
By the Federal Housing Finance Board.
Stephen M. Cross,
Director, Office of Supervision.

[FR Doc. 03-3399 Filed 2-10-03; 8:45 am]

BILLING CODE 6725-02-P